DEPARTMENT OF ENERGY

Federal Energy Regulatory Commission

Combined Notice of Filings

Take notice that the Commission has received the following Natural Gas Pipeline Rate and Refund Report filings:

Filings Instituting Proceedings

Docket Number: PR19-42-000.

Applicants: Arkansas Oklahoma Gas Corporation.

Description: Annual Report and Request for Continued Limited Waivers of Requirements to submit informational rate filing, et al. of Arkansas Oklahoma Gas Corporation.

Filed Date: 2/22/19.

Accession Number: 201902225228.

Comments/Protests Due: 5 p.m. ET 3/15/19.

Docket Number: PR19-27-001.

Applicants: DCP Guadalupe Pipeline, LLC.

Description: Tariff filing per 284.123(b),(e)+(g): Amendment to Remove Section 311 Firm Transportation to be effective 1/1/2019.

Filed Date: 2/25/19.

Accession Number: 201902255154.

Comments Due: 5 p.m. ET 3/18/19.

284.123(g) Protests Due: 5 p.m. ET 3/18/19.

Docket Number: PR19-43-000.

Applicants: EasTrans, LLC.

Description: Tariff filing per 284.123(b)(1)+(g): EasTrans SOC Rate Certification Filing to be effective 3/31/2019.

Filed Date: 2/27/19.

Accession Number: 201902275000.

Comments Due: 5 p.m. ET 3/20/19.

284.123(g) Protests Due: 5 p.m. ET 4/29/19.

Docket Numbers: RP19-668-001.

Applicants: WestGas InterState, Inc.

Description: Tariff Amendment: Amendment to be effective 2/20/2019.

Filed Date: 2/27/19.

Accession Number: 20190227-5139.

Comments Due: 5 p.m. ET 3/11/19.

Docket Numbers: RP19-698-000.

Applicants: Texas Eastern Transmission, LP.

Description: § 4(d) Rate Filing: Negotiatad Rate—Pal Citigroup Deal 951825 eff 3-2-19 to be effective 3/2/2019.

Filed Date: 2/27/19.

Accession Number: 20190227-5001.

Comments Due: 5 p.m. ET 3/11/19.

Docket Numbers: RP19-699-000.

Applicants: Natural Gas Pipeline Company of America.

Description: § 4(d) Rate Filing: Negotiated Rate Agreement—ConocoPhillips Company to be effective 4/1/2019.

Filed Date: 2/27/19.

Accession Number: 20190227-5002.

Comments Due: 5 p.m. ET 3/11/19.

Docket Numbers: RP19-700-000.

Applicants: Natural Gas Pipeline Company of America.

Description: § 4(d) Rate Filing: Negotiated Rate Agreement—Macquarie Energy to be effective 4/1/2019.

Filed Date: 2/27/19.

Accession Number: 20190227-5003.

Comments Due: 5 p.m. ET 3/11/19.

Docket Numbers: RP19-701-000.

Applicants: Natural Gas Pipeline Company of America.

Description: § 4(d) Rate Filing: Negotiated Rate Agreement—Nicor Gas Company to be effective 4/1/2019.

Filed Date: 2/27/19.

Accession Number: 20190227-5004.

Comments Due: 5 p.m. ET 3/11/19.

Docket Numbers: RP19-702-000.

Applicants: Natural Gas Pipeline Company of America.

Description: § 4(d) Rate Filing: Negotiated Rate Agreement—Tenaska Marketing Ventures to be effective 4/1/2019.

Filed Date: 2/27/19.

Accession Number: 20190227-5005.

Comments Due: 5 p.m. ET 3/11/19.

Docket Numbers: RP19-703-000.

Applicants: Dauphin Island Gathering Partners.

Description: § 4(d) Rate Filing: Negotiated Rate Filing 2-27-2019 to be effective 3/1/2019.

Filed Date: 2/27/19.

Accession Number: 20190227-5006.

Comments Due: 5 p.m. ET 3/11/19.

Docket Numbers: RP19-704-000.

Applicants: Millennium Pipeline Company, LLC.

Description: § 4(d) Rate Filing: RAM 2019 to be effective 4/1/2019.

Filed Date: 2/27/19.

Accession Number: 20190227-5028.

Comments Due: 5 p.m. ET 3/11/19.

Docket Numbers: RP19-705-000.

Applicants: Northwest Pipeline LLC.

Description: § 4(d) Rate Filing: 2019 Summer Fuel Filing to be effective 4/1/2019.

Filed Date: 2/27/19.

Accession Number: 20190227-5046.

Comments Due: 5 p.m. ET 3/11/19.

Docket Numbers: RP19-706-000.

Applicants: Algonquin Gas Transmission, LLC.

Description: § 4(d) Rate Filing: Negotiated Rate—Bay State 510804 releases eff 3-1-19 to be effective 3/1/2019.

Filed Date: 2/27/19.

Accession Number: 20190227-5047.

Comments Due: 5 p.m. ET 3/11/19.

Docket Numbers: RP19-707-000.

Applicants: Northwest Pipeline LLC.

Description: § 4(d) Rate Filing: NWP 2019 South Seattle Incremental Rate Update Filing to be effective 4/1/2019.

Filed Date: 2/27/19.

Accession Number: 20190227-5053.

Comments Due: 5 p.m. ET 3/11/19.

Docket Numbers: RP19-708-000.

Applicants: Algonquin Gas Transmission, LLC.

Description: § 4(d) Rate Filing: Negotiated Rate—Boston 510807 releases eff 3-1-19 to be effective 3/1/2019.

Filed Date: 2/27/19.

Accession Number: 20190227-5055.

Comments Due: 5 p.m. ET 3/11/19.

Docket Numbers: RP19-709-000.

Applicants: Iroquois Gas Transmission System, L.P.

Description: § 4(d) Rate Filing: 022719 Negotiated Rates—Castleton Commodities Merchant Trading H-4010-89 to be effective 2/26/2019.

Filed Date: 2/27/19.

Accession Number: 20190227-5057.

Comments Due: 5 p.m. ET 3/11/19.

Docket Numbers: RP19-710-000.

Applicants: Golden Pass Pipeline LLC.

Description: Compliance filing Golden Pass Pipeline 2019 Annual Retainage Report to be effective 4/1/2019.

Filed Date: 2/27/19.

Accession Number: 20190227-5059.

Comments Due: 5 p.m. ET 3/11/19.

Docket Numbers: RP19-711-000.

Applicants: LA Storage, LLC.

Description: § 4(d) Rate Filing: LA Storage 2019 Annual Adjustment of Fuel Retainage Percentage to be effective 4/1/2019.

Filed Date: 2/27/19.

Accession Number: 20190227-5073.

Comments Due: 5 p.m. ET 3/11/19.

Docket Numbers: RP19-712-000.

Applicants: High Island Offshore System, L.L.C.

Description: 2019 Annual Fuel Tracker Filing of High Island Offshore System, L.L.C. under RP19-712.

Filed Date: 2/27/19.

Accession Number: 20190227-5118.

Comments Due: 5 p.m. ET 3/11/19.

Docket Numbers: RP19-713-000.

Applicants: Golden Pass Pipeline LLC.

Description: Compliance filing Golden Pass Pipeline Operational Purchases and Sales Report 2018.

Filed Date: 2/27/19.

Accession Number: 20190227-5122.

Comments Due: 5 p.m. ET 3/11/19.

Docket Numbers: RP19-714-000.

Applicants: Sabine Pipe Line LLC.

Description: § 4(d) Rate Filing: Annual Fuel and Line Loss Reimbursement Filing to be effective 4/1/2019.

Filed Date: 2/27/19.

Accession Number: 20190227-5141.

Comments Due: 5 p.m. ET 3/11/19.

Docket Numbers: RP19-715-000.

Applicants: Tallgrass Interstate Gas Transmission, LLC.

Description: § 4(d) Rate Filing: FL&U and EPCT Periodic Rate Adjustment 2019 to be effective 4/1/2019.

Filed Date: 2/27/19.

Accession Number: 20190227-5147.

Comments Due: 5 p.m. ET 3/11/19.

Docket Numbers: RP19-716-000.

Applicants: Columbia Gas Transmission, LLC.

Description: Compliance filing Annual Report on Operational Transactions.

Filed Date: 2/27/19.

Accession Number: 20190227-5148.

Comments Due: 5 p.m. ET 3/11/19.

Docket Numbers: RP19-717-000.

Applicants: Columbia Gulf Transmission, LLC.

Description: Compliance filing Annual Report on Operational Purchases and Sales.

Filed Date: 2/27/19.

Accession Number: 20190227-5149.

Comments Due: 5 p.m. ET 3/11/19.

Docket Numbers: RP19-718-000.

Applicants: Crossroads Pipeline Company.

Description: Compliance filing Annual Report on Operational Transactions.

Filed Date: 2/27/19.

Accession Number: 20190227-5151.

Comments Due: 5 p.m. ET 3/11/19.

Docket Numbers: RP19-719-000.

Applicants: Hardy Storage Company, LLC.

Description: Compliance filing Annual Report on Operational Transactions.

Filed Date: 2/27/19.

Accession Number: 20190227-5152.

Comments Due: 5 p.m. ET 3/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2019.
Nathaniel J. Davis, Sr.,
Deputy Secretary.

[FR Doc. 2019-03994 Filed 3-5-19; 8:45 am]

BILLING CODE 6717-01-P